ENVIRONMENTAL PROTECTION AGENCY

[EPA-R05-SFUND-2022-0739; FRL-10171-01-R5]

Proposed CERCLA Administrative Settlement Agreement EPA Agreement No. V-W-22-C-009; AB Specialty Silicones Fire Site, Waukegan, Lake County, Illinois

AGENCY: Environmental Protection Agency (EPA).

ACTION: Notice of proposed settlement; request for comment.

SUMMARY: In accordance with the Comprehensive Environmental Response, Compensation, and Liability Act (CERCLA) and the terms of the proposed settlement agreement, the Environmental Protection Agency (EPA), Region 5, hereby gives notice of a proposed administrative settlement concerning the AB Specialty Silicones Fire Site in Waukegan, Lake County, Illinois (the “Site”). The EPA proposes to enter into an Administrative Settlement Agreement and Order on Consent (an “ASAOC”) with AB Specialty Silicones, LLC and Wittenshire, LLC (the “Respondents”). The ASAOC requires the Respondents to pay $266,000 in past response costs. The EPA will consider all comments received and may modify or withdraw its consent to the settlement if comments received disclose facts or considerations that indicate that the proposed settlement is inappropriate, improper, or inadequate. The EPA's response to any comments received will be available for public inspection at: https://cumulis.epa.gov/supercpad/CurSites/csitinfo.cfm?id=0508659.

DATES: Comments must be received on or before October 17, 2022.

ADDRESSES: You may send comments, identified by Docket ID No. EPA-R05-SFUND-2022-0739, by any of the following methods:

• Federal eRulemaking Portal: https://www.regulations.gov (our preferred method). Follow the online instructions for submitting comments.

• Mail: U.S. Environmental Protection Agency, ATTN: Mark Koller, Associate Regional Counsel, Office of Regional Counsel (C-14J), 77 W Jackson Blvd., Chicago, Illinois 60604.

Instructions: All submissions received must include the Docket ID No. for this rulemaking. Comments received may be posted without change to https://www.regulations.gov, including any personal information provided. For detailed instructions on sending comments and additional information on the rulemaking process, see the “Public Participation” heading of the SUPPLEMENTARY INFORMATION section of this document.

FOR FURTHER INFORMATION CONTACT: Mark Koller, Office of Regional Counsel, Environmental Protection Agency, telephone number: (312) 353-2591; email address: koller.mark@epa.gov.

SUPPLEMENTARY INFORMATION:

I. Public Participation

A. Written Comments

Submit your comments, identified by Docket ID No. EPA-R05-SFUND-2022-0739, at https://www.regulations.gov (our preferred method), or the other methods identified in the ADDRESSES section. Once submitted, comments cannot be edited or removed from the docket. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

II. Background Information

This notice pertains to the AB Specialty Silicones Fire Site in Waukegan, Illinois. On May 3, 2019, an explosion and fire occurred at the AB Specialty Silicones process building resulting in a release of silicone products and silicone production materials. EPA coordinated oversight of emergency response and removal activities. The Settling Parties were responsible for and performed emergency response and removal activities. In performing a response action, EPA has incurred response costs at or in connection with the Site. EPA demobilized from the Site in December 2021. Under the proposed ASAOC, the Settling Parties agree to pay $266,000 of EPA's Past Response Costs. In exchange, the Settling Parties will receive from EPA a covenant not to sue or take administrative action pursuant to Section 107(a) of CERCLA, 42 U.S.C. 9607(a), to recover Past Response Costs. The EPA's covenant not to sue is subject to reservations.

The EPA is providing notice of the proposed ASAOC in accordance with Section 122(i) of CERCLA, 42 U.S.C. 9622(i), which requires the Administrator to provide notice and an opportunity for comment when the EPA proposes to settle a claim pursuant to Section 122(h) of CERCLA, 42 U.S.C. 9622(h).

Douglas Ballotti,
Director, Superfund & Emergency Management Division.

[FR Doc. 2022-20021 Filed 9-15-22; 8:45 am]

BILLING CODE 6560-50-P